DEPARTMENT OF COMMERCE

Foreign-Trade Zones Board

[Order No. 1945]

Approval for Expanded Manufacturing Authority; Foreign-Trade Subzone 45F; Epson Portland, Inc. (Inkjet Printer Cartridges); Portland, Oregon

Pursuant to its authority under the Foreign-Trade Zones Act of June 18, 1934, as amended (19 U.S.C. 81a-81u), the Foreign-Trade Zones Board (the Board) adopts the following Order:

Whereas, the Port of Portland, grantee of Foreign-Trade Zone 45, has requested authority on behalf of Epson Portland, Inc. (EPI), to expand the scope of manufacturing activity conducted under zone procedures within Subzone 45F at the EPI facility in Hillsboro, Oregon, (FTZ Docket 7-2012, filed 1/19/2012 and amended 2/26/2014);

Whereas, notice inviting public comment has been given in the Federal Register (77 FR 4006-4007, 1/26/2012; 77 FR 21082, 4/9/2012; 77 FR 26252,5/3/2012; 77 FR 31308-31309, 5/25/2012; and, 79 FR 14214, 3/13/2014) and the application has been processed pursuant to the FTZ Act and the Board's regulations; and,

Whereas, the Board adopts the findings and recommendations of the examiner's report, and finds that the requirements of the FTZ Act and the Board's regulations would be satisfied, and that the proposal would be in the public interest if subject to the restriction listed below;

Now, therefore, the Board hereby orders:

The application to expand the scope of manufacturing authority under zone procedures within Subzone 45F, as described in the application, as amended, and Federal Register notices, is approved, subject to the FTZ Act and the Board's regulations, including Section 400.13, and further subject to a restriction requiring that EPI elect privileged foreign status (19 CFR 146.41) on all pigment dispersions in plastics (HTSUS 3206.49.10) admitted to the subzone.

Signed at Washington, DC, this 6th day of August 2014.
Paul Piquado,
Assistant Secretary of Commerce for Enforcement and Compliance, Alternate Chairman, Foreign-Trade Zones Board.
Andrew McGilvray,
Executive Secretary.

[FR Doc. 2014-19274 Filed 8-13-14; 8:45 am]

BILLING CODE 3510-DS-P